DEPARTMENT OF TRANSPORTATION

Office of the Secretary

Applications for Certificates of Public Convenience and Necessity and Foreign Air Carrier Permits

Notice of Applications for Certificates of Public Convenience and Necessity and Foreign Air Carrier Permits Filed Under Subpart B (formerly Subpart Q) during the Week Ending Novermber 16, 2013. The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2007-0066.

Date Filed: November 12, 2013.

Due Date for Answers, Conforming Applications, or Motion to Modify Scope: December 3, 2013.

Description: Application of Hainan Airlines Co., Ltd. requesting the Department amend its foreign air carrier permit to enable it to engage in scheduled air transportation of persons, property and mail between Beijing, People's Republic of China (PEK), on the one hand, and Boston, Massachusetts (BOS), on the other hand. Hainan Airlines also requests exemption authority to the extent necessary so that it may exercise the rights requested in this application prior to the issuance of an amended foreign air carrier permit.

Docket Number: DOT-OST-2013-0197.

Date Filed: November 14, 2013.

Due Date for Answers, Conforming Applications, or Motion to Modify Scope: December 5, 2013.

Description: Application of Wow Air ehf requesting exemption authority and a foreign air carrier permit to enable it to engage in (a) foreign scheduled and charter air transportation of persons, property and mail between points behind Iceland, via Iceland and intermediate points, and any point or points in the United States and beyond; (b) foreign scheduled and charter air transportation of persons, property and mail from any point or points behind any Member State of the European Union via any point or points in any Member State and via intermediate points to any point or points in the United States and beyond; (c) foreign scheduled and charter air transportation of persons, property and mail between any point or points in the United States and any point or points in any member of the European Common Aviation Area; (d) foreign scheduled and charter air transportation of cargo between any point or points in the United States and any other point or points; (e) scheduled and charter transportation consistent with any future, additional rights that may be granted to foreign air carriers of the Member States of the European Community; and (f) other charters pursuant to the prior approval requirements.

Docket Number: DOT-OST-2013-0200.

Date Filed: November 14, 2013.

Due Date for Answers, Conforming Applications, or Motion to Modify Scope: December 5, 2013.

Description: Application of Compagnie Aerienne Interregionale Express (CAIRE) dba Air Guyane Express/Air Antilles Express requesting a foreign air carrier permit and exemption authority to engage in scheduled and charter foreign air transportation of passengers, cargo and mail to/from Guadeloupe, Martinique and St. Martin to/from San Juan, Puerto Rico.

Barbara J. Hairston,
Supervisory Dockets Officer, Docket Operations, Federal Register Liaison.

[FR Doc. 2013-28876 Filed 12-2-13; 8:45 am]

BILLING CODE 4910-9X-P